ENVIRONMENTAL PROTECTION AGENCY

40 CFR Part 52

[EPA-R01-OAR-2016-0110; A-1-FRL-9965-12Region 1]

Air Plan Approval; ME; Regional Haze 5-Year Progress Report

AGENCY: Environmental Protection Agency (EPA).

ACTION: Proposed rule.

SUMMARY: The Environmental Protection Agency (EPA) is proposing to approve Maine's regional haze progress report, submitted on February 23, 2016, as a revision to its State Implementation Plan (SIP). Maine's SIP revision addresses requirements of the Clean Air Act (CAA) and EPA's rules that require states to submit periodic reports describing progress toward reasonable progress goals (RPGs) established for regional haze and a determination of the adequacy of the State's existing regional haze SIP. Maine's progress report notes that Maine has implemented the measures in the regional haze SIP due to be in place by the date of the progress report and that visibility in federal Class I areas affected by emissions from Maine is improving and has already met the applicable RPGs for 2018. EPA is proposing approval of Maine's determination that the State's regional haze SIP is adequate to meet these reasonable progress goals for the first implementation period covering through 2018 and requires no substantive revision at this time.

DATES: Written comments must be received on or before August 21, 2017.

ADDRESSES: Submit your comments, identified by Docket ID No. EPA-R01-OAR-2016-0110 at http://www.regulations.gov, or via email to arnold.anne@epa.gov. For comments submitted at Regulations.gov, follow the online instructions for submitting comments. Once submitted, comments cannot be edited or removed from Regulations.gov. For either manner of submission, the EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, please contact the person identified in the For Further Information Contact section. For the full EPA public comment policy, information about CBI or multimedia submissions, and general guidance on making effective comments, please visit http://www2.epa.gov/dockets/commenting-epa-dockets.

FOR FURTHER INFORMATION CONTACT: Anne McWilliams, Air Quality Unit, U.S. Environmental Protection Agency, EPA New England Regional Office, 5 Post Office Square—Suite 100, (Mail Code OEP05-02), Boston, MA 02109—3912, telephone number (617) 918-1697, fax number (617) 918-0697, email mcwilliams.anne@epa.gov.

SUPPLEMENTARY INFORMATION: Throughout this document whenever “we,” “us,” or “our” is used, we mean EPA.

Table of Contents

I. Background

II. EPA's Evaluation of Maine's SIP Revision

A. Regional Haze Progress Report

B. Determination of Adequacy of Existing Regional Haze Plan

III. Proposed Action

IV. Statutory and Executive Order Reviews

I. Background

States are required to submit a progress report in the form of a SIP revision that evaluates progress towards the RPGs for each mandatory Class I Federal area ¹ (Class I area) within the state and in each Class I area outside the state which may be affected by emissions from within the state. See 40 CFR 51.308(g). In addition, the provisions under 40 CFR 51.308(h) require states to submit, at the same time as the 40 CFR 51.308(g) progress report, a determination of the adequacy of the state's existing regional haze SIP. The progress report SIP is due five years after submittal of the initial regional haze SIP. On December 9, 2010, the Maine Department of Environmental Protection (ME DEP) submitted the State's first regional haze SIP in accordance with 40 CFR 51.308.²

¹ Areas designated as mandatory Class I Federal areas consist of national parks exceeding 6000 acres, wilderness areas and national memorial parks exceeding 5000 acres, and all international parks that were in existence on August 7, 1977 (42 U.S.C. 7472(a)). Listed at 40 CFR part 81 Subpart D.

² On April 24, 2012, EPA approved Maine's Regional Haze SIP submittal addressing the requirements of the first implementation period for regional haze. See 77 FR 24385.

On February 23, 2016, ME DEP submitted a revision to the Maine SIP detailing the progress made in the first planning period toward implementation of the Long Term Strategy (LTS) outlined in its 2010 regional haze SIP submittal, the visibility improvement measured at the Class I areas affected by emissions from Maine, and a determination of the adequacy of the State's existing regional haze SIP. EPA is proposing to approve Maine's February 23, 2016 SIP submittal.

II. EPA's Evaluation of Maine's SIP Revision

On February 23, 2016, Maine submitted its “Regional Haze 5-Year Progress Report” (Progress Report) to EPA as a SIP revision.

Maine is home to three Class I areas: Acadia National Park (Acadia), Roosevelt-Campobello International Park (RCIP), and Moosehorn Wilderness Area (Moosehorn). Emissions from Maine sources were also found to be contributing to visibility impairment at nearby Great Gulf Wilderness Area (Great Gulf) in New Hampshire. See 76 FR 73956 (November 29, 2011).

Through the consultation process, Maine agreed to pursue the coordinated course of action agreed to by the Mid-Atlantic/Northeast Visibility Union (MANE-VU) ³ to assure reasonable progress toward preventing any future, and remedying any existing, impairment of visibility in the mandatory Class I areas within the MANE-VU region. These strategies are commonly referred to as the MANE-VU “Ask.” The MANE-VU “Ask” includes: A timely implementation of best available retrofit technology (BART) requirements; 90 percent or more reduction in sulfur dioxide (SO2) emissions at 167 electrical generating units (EGUs) “stacks” identified by MANE-VU (or comparable alternative measures); lower sulfur fuel oil (with limits specified for each State); and continued evaluation of other control measures.⁴ In summary, Maine is on track to fulfill the MANE-VU “Ask” by meeting the deadlines for BART requirements, as of the date of the Progress Report, for all BART-eligible facilities described in the Progress Report, adopting a low sulfur fuel oil strategy requiring the use of 0.0015% sulfur by weight in distillate and 0.5% sulfur by weight residual fuel oil by July 1, 2018, and reducing SO2 emissions by 57% from the State's one identified contributing EGU, Florida Power and Light's Wyman Station (Wyman). An additional reduction in SO2 emissions from Wyman is expected with the implementation of 0.5% sulfur by weight residual oil requirement by July 1, 2018.

³ MANE-VU is a collaborative effort of State governments, Tribal governments, and various federal agencies established to initiate and coordinate activities associated with the management of regional haze, visibility and other air quality issues in the Northeastern United States. Member State and Tribal governments include: Connecticut, Delaware, the District of Columbia, Maine, Maryland, Massachusetts, New Hampshire, New Jersey, New York, Pennsylvania, Penobscot Indian Nation, Rhode Island, and Vermont.

⁴ The MANE-VU “Ask” was structured around the finding that SO2 emissions were the dominate visibility impairing pollutant at the Northeastern Class I areas and electrical generating units comprised the largest SO2 emission sector. See “Regional Haze and Visibility in the Northeast and Mid-Atlantic States,” January 31, 2001.

A. Regional Haze Progress Report

This section includes the EPA's analysis of Maine's Progress Report SIP submittal, and an explanation of the basis of our proposed approval.

Maine's 2010 regional haze SIP included the following key measures: Implementation of BART for eligible sources, reducing the sulfur in fuel oil content, and reducing SO2 emissions from the Maine EGU identified as contributing to visibility impairment at nearby Class I areas.

In the Maine 2010 Regional Haze SIP, ME DEP identified 10 facilities subject to BART. For eight of these facilities, the existing controls were determined to be BART. The remaining two sources eligible for BART controls were: Wyman Boiler #3 and Verso Androscoggin at Jay Boilers #1 and #2. As documented in Table 3-1 of the Maine Progress Report, each of these two sources has implemented a permit revision, approved in EPA's April 24, 2012 approval of Maine's regional haze SIP (77 FR 24385), which requires the use of 0.7% sulfur by weight fuel oil by the BART deadline of 2013.⁵

⁵ See EPA's Proposed Approval of Maine's Regional Haze SIP (76 FR 73956, November 29, 2011) for a full discussion of Maine's BART analysis.

Maine's Progress Report notes the implementation of the MANE-VU “Ask” for sulfur content of fuel oil. The Maine statute, approved by the EPA as part of Maine's regional haze plan, lowers the sulfur content of all distillate fuel oils to 0.0015% sulfur by weight and residual oils to 0.5% sulfur beginning July 1, 2018.⁶

⁶ Maine's Sulfur in Fuel Statute 38 MRSA Section 603-A subsection 2(A) was approved into the Maine SIP on April 24, 2012. See 79 FR 24385.

Maine has two EGUs among the 167 EGUs stacks identified for control of sulfur dioxide emission in the MANE-VU “Ask.” These stacks are Wyman units #3 and #4. As previously discussed above, unit #3 was required to reduce the sulfur in fuel content to 0.7% by 2013 with a further reduction to 0.5% sulfur by weight in 2018, as required by Maine's sulfur in fuels statute. Unit #4 is following the same timeline. The Progress Report indicates a 1,138 ton/year SO2 (or 57%) emission reduction from Wyman thus far. An additional reduction in SO2 emission is expected from the required use of 0.5% sulfur by weight fuel oil by 2018.

The Maine Progress Report also includes the status of SO2 emission reductions from states that affect Class I areas in MANE-VU relative to the MANE-VU “Ask.” ⁷ Maine consulted with states in the eastern United States that affect visibility at the Class I areas at Acadia, Moosehorn, and RCIP, outlining how they could meet the MANE-VU “Ask” and help achieve the progress goals for Class I areas in Maine and other MANE-VU States. These emission reductions were included in the modeling that predicted progress toward meeting RPGs. The EPA is proposing that Maine's summary of the status of the implementation of measures in its Progress Report adequately addresses the applicable provisions under 40 CFR 51.308(g), as the State demonstrated the implementation of measures within Maine, including applying BART at subject sources.

⁷ Memorandum from NESCAUM to MANE-VU “Overview of State and Federal Actions Relative to MANE-VU Asks” dated March 28, 2013. http://www.nescaum.org/documents/summary-memo-mane-vuasks-20130328-fianl.pdf/.

During the development of the regional haze SIP for the first planning period, MANE-VU and Maine determined that SO2 was the greatest contributor to anthropogenic visibility impairment at the State's Class I areas. Therefore, the bulk of visibility improvement achieved in the first planning period was expected to result from reductions in SO2 emissions from sources inside and outside of the State. Table 6-1 of Maine's 2016 Progress Report details the SO2 emission reductions from the 2002 Maine regional haze SIP baseline to 2014 for not only the targeted Wyman units, but all Maine EUGs.⁸ The Maine EGUs show an emission reduction from 2,022 tons SO2 in 2002 to 856 tons SO2 in 2014, a reduction of 57%. Oxides of nitrogen (NOX) emissions from these same sources were also reduced from 1,154 tons in 2002 to 539 tons in 2014, a reduction of 53%.

⁸ Maine's Progress Report SIP includes annual unit-level emissions data for SO2 and NOX from EGUs from EPA's Clean Air Markets Division (CAMD) for the years 2002 and 2014.

EPA is proposing to find that Maine has adequately addressed the applicable provisions of 40 CFR 51.308(g). Maine has detailed the SO2 and NOX reductions from the 2002 regional haze baseline by using the most recently available year of data at the time of the development of Maine's Progress Report, which is 2014.

The provisions under 40 CFR 51.308(g) also require that States with Class I areas within their borders provide information on current visibility conditions and the difference between current visibility conditions and baseline visibility conditions expressed in terms of five-year averages of these annual values.

Maine is home to three Class I areas; Acadia, RCIP, and Moosehorn. Maine relies on the Interagency Monitoring of Protected Visual Environments (IMPROVE) program monitoring network for visibility measurements. One IMPROVE monitor is located within Acadia. A second IMPROVE monitor is located one mile northeast of Moosehorn. The Moosehorn monitor also serves as the monitor for nearby RCIP. In the Progress Report, ME DEP provides the data in deciviews (dv) ⁹ for the baseline 2000-2004 five-year average visibility, the most recent 2010-2014 five-year average visibility, the 2018 RPG from the 2010 regional haze SIP, and the calculated visibility improvement. See Table 1.

⁹ The deciview is a measure for tracking progress in improving visibility. Each deciview change is an incremental change in visibility perceived by the human eye. The preamble to the Regional Haze Rule provides additional details about the deciview (64 FR 35714 (July 1, 1999)).

Table 1—Observed Visibility vs. Established Visibility Goals (deciviews) for Acadia and Moosehorn
| Baseline 2000-2004 5-year average visibility (dv) | Most recent 2010-2014 5-year average visibility (dv) | Visibility improvement (dv) | 2018 Reasonable progress goal (dv) | Meets 2018 progress goals?
20% Most Impaired Days
Acadia | 22.9 | 17.5 | 5.4 | 19.4 | Yes.
Moosehorn | 21.7 | 16.5 | 5.2 | 19.0 | Yes.
20% Least Impaired Days
Acadia | 8.8 | 7.0 | 1.8 | 8.3 | Yes.
Moosehorn | 9.2 | 6.7 | 2.5 | 8.6 | Yes.

The baseline visibility for Acadia and Moosehorn was 22.9 dv and 21.7 dv, respectively, on the 20% most impaired days. On the 20% least impaired days, the baseline visibility was 8.8 dv and 9.2 dv for these two sites, respectively. The most recent five-year average data for both sites shows an improvement of more than 5 dv on the 20% most visibility impaired days and no visibility degradation on the 20% least impaired days. The 2016 Progress Report demonstrates that the State has already achieved the 2018 RPG for the 20% most impaired days and ensured no visibility degradation for the 20% least impaired days for the first planning period. The Class I area outside of Maine affected by sources in Maine also has achieved the 2018 RPGs.

EPA is proposing to find that Maine provided the required information regarding visibility conditions to meet the applicable provisions under 40 CFR 51.308(g), specifically providing baseline visibility conditions (2000-2004), current conditions based on the most recently available IMPROVE monitoring data (2010-2014), and a comparison with the RPGs.

In its Progress Report SIP, Maine presents data from statewide emissions inventories developed for the years 2002, 2011, and 2014 (EGUs only), and projected inventories for 2018 for SO2, NOX, fine particulate matter (PM2.5), and volatile organic compounds (VOC).¹⁰ Maine's emissions inventories include the following source classifications; Point EGUs, Point Non-EGU, Area, On-Road Mobile, and Non-road. From 2002 through 2014, Maine's overall EGU SO2 emissions were reduced from 2,022 tons to 856 tons, well below the 2018 projected level of 7,422 tons. The largest SO2 sector, Point Non-EGU, saw emissions drop from 21,709 tons in 2002 to 6,434 tons in 2011, well below the 18,492 tons projected for 2018. Overall, State SO2 emissions dropped from 39,589 tons in 2002 to 15,528 tons in 2011, below the 2018 projection of 31,830 tons. Statewide NOX emissions experienced a similar decrease. Overall, State NOX emissions dropped from 91,928 tons in 2002 to 62,633 tons in 2011. The 2018 projected NOX emissions is 41,922 tons. Additional NOX reductions are expected from the mobile sector. Finally, ME DEP indicated that based on 2011 emission data, the State has already achieved the 2018 projected emissions reduction for direct PM2.5 (2% reduction) and VOC (20% reduction).

¹⁰ The 2002 inventory is the MANE-VU V3.3 which is projected to 2018. The 2011 inventory is based on the 2011 National Emission Inventory (NEI). The 2014 inventory was the most recent year of Clean Air Markets Division (CAMD) inventory data as reported to EPA.

EPA is proposing that Maine has adequately addressed the applicable provisions under 40 CFR 51.308. ME DEP compares the most recent updated emission inventory data available at the time of development of the Progress Report with the baseline emissions in the regional haze SIP. The Progress Report appropriately details the 2011 SO2, NOX, PM2.5, and VOC reductions achieved, by sector, thus far in the regional haze planning period. In addition, the State provided the most recent annual SO2 and NOX emission data for EGUs.

In its Progress Report SIP, Maine states that sulfates continue to be the biggest single contributor to regional haze at Acadia, Moosehorn, RCIP, and Great Gulf. While Maine mainly focused its analysis on addressing large SO2 emissions from point sources, the State did not find any significant changes in NOX and PM2.5 which might impede or limit progress during the first planning period. In addition, ME DEP cited the 2013 Northeast States for Coordinated Air Use Management (NESCAUM) report, discussed below, which indicates that all of the MANE-VU Class I areas are on track to meet the 2018 visibility goals established by the States in their Regional Haze SIPs.¹¹

¹¹ NESCAUM for MANE-VU, “Tracking Visibility Progress 2004-2011,” revised May 24, 2013. http://www.nescaum.org/documents/manevu-trends-2004-2011-report-final-20130430.pdf/view. The report was later updated with 2014 IMPROVE data.

EPA is proposing to conclude that Maine has adequately addressed the applicable provisions under 40 CFR 51.308(g). The State adequately demonstrated that there are no significant changes in emissions of SO2, PM2.5, or NOX within the State which have impeded progress in reducing emissions and improving visibility in the Class I areas impacted by Maine sources.

In its Progress Report SIP, ME DEP states that the elements and strategies relied on in its original Regional Haze SIP are sufficient to enable Maine and neighboring States to meet all RPGs. To support this conclusion, ME DEP notes in Table 7-1 of the Progress Report that the 2014 EGU SO2 emissions from the entire MANE-VU area are already less than the 2018 projections for that area (323,704 tons versus 365,024 tons). In addition, Maine discusses visibility data from Tracking Visibility Progress, 2004-2011, prepared by NESCAUM, which updated the progress at MANE-VU Class I areas during the five-year period ending in 2014. The data included information for the Maine Class I areas, between 2000 and 2014, in the context of short- and long-term visibility goals. The report indicates that visibility impairment on the best and worst days from 2000-2014 have dropped at Acadia, Moosehorn, and Great Gulf. Maine notes the NESCAUM report indicates that all the MANE-VU Class I states continue to be on track to meet their 2018 RPGs for improved visibility and that further progress may occur through recently adopted or proposed regulatory programs. Based upon the NESCAUM report and visibility data, Maine states in its Progress Report that visibility improvement at Acadia, Moosehorn, RCIP, and Great Gulf has occurred for the most impaired days and no degradation of visibility has occurred for the least impaired days. Therefore, Maine finds that Acadia, Moosehorn, RCIP, and Great Gulf are on track to meet the RPGs for 2018 based on observed visibility improvement.

EPA is proposing to conclude that Maine has adequately addressed the applicable provisions under 40 CFR 51.308(g). EPA views this requirement as an assessment that should evaluate emissions and visibility trends and other readily available information. In its Progress Report, Maine describes the improving visibility trends using data from the IMPROVE network and the downward emission trends in key pollutants in the State and the MANE-VU region. Maine determined that the State's regional haze SIP is sufficient for the three Class I areas within the State and the Class I area outside of the State impacted by the State's emissions (Great Gulf) to meet their RPGs.

Maine's visibility monitoring strategy relies upon participation in the IMPROVE network. The IMPROVE monitor serving Acadia is located within Acadia National Park. The IMPROVE monitor serving Moosehorn and RCIP is located one mile northeast of Moosehorn. ME DEP finds that there is no indication of a need for additional monitoring sites or equipment.

EPA is proposing to find that Maine has adequately addressed the applicable provisions under 40 CFR 51.308(g) by reviewing the State's visibility monitoring strategy and assessing whether any modifications to the monitoring strategy are necessary.

B. Determination of Adequacy of Existing Regional Haze Plan

In its Progress Report SIP, Maine submitted a negative declaration to EPA regarding the need for additional actions or emission reductions in Maine beyond those already in place and those to be implemented by 2018 according to Maine's regional haze plan.

In the 2016 SIP submittal, Maine determined that the existing Regional Haze SIP requires no substantive revision at this time to achieve the RPGs for the Class I areas affected by the State's sources. The basis for the State's negative declaration is the finding that visibility has improved at all Class I areas in the MANE-VU region. In addition, SO2 and PM2.5 emissions for the State have decreased beyond the original 2018 projections. While NOX reductions have yet to fully meet the 2018 projections, additional substantial NOX reductions are expected by 2018.

EPA is proposing to conclude that Maine has adequately addressed the provisions under 40 CFR 51.308(h) because the visibility and emission trends indicate that Acadia, Moosehorn, RCIP, and Great Gulf are meeting or exceeding the RPGs for 2018, and are expected to continue to meet or exceed the RPGs for 2018.

EPA is soliciting public comments on the issues discussed in this notice or on other relevant matters. These comments will be considered before taking final action. Interested parties may participate in the Federal rulemaking procedure by submitting written comments to this proposed rule by following the instructions listed in the ADDRESSES section of this Federal Register.

III. Proposed Action

EPA is proposing to approve Maine's February 23, 2016 regional haze 5-Year Progress Report SIP as meeting the requirements of 40 CFR 51.308(g) and (h).

IV. Statutory and Executive Order Reviews

Under the Clean Air Act, the Administrator is required to approve a SIP submission that complies with the provisions of the Act and applicable Federal regulations. 42 U.S.C. 7410(k); 40 CFR 52.02(a). Thus, in reviewing SIP submissions, EPA's role is to approve State choices, provided that they meet the criteria of the Clean Air Act. Accordingly, this proposed action merely approves State law as meeting Federal requirements and does not impose additional requirements beyond those imposed by State law. For that reason, this proposed action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Carbon monoxide, Incorporation by reference, Intergovernmental relations, Lead, Nitrogen dioxide, Ozone, Particulate matter, Regional haze, Reporting and recordkeeping requirements, Sulfur oxides, Volatile organic compounds.

Dated: July 5, 2017.
Deborah A. Szaro,
Acting Regional Administrator, EPA New England.

[FR Doc. 2017-15266 Filed 7-19-17; 8:45 am]

BILLING CODE 6560-50-P